FEDERAL MARITIME COMMISSION

Notice of Agreement Filed

The Commission hereby gives notice of the filing of the following agreement under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 012038.

Title: CSAV Group/K Line USEC-ECSA Vessel Sharing Agreement.

Parties: Compania Sud Americana de Vapores S.A., Companhia Libra de Navegacao, Compania Libra de Navegacao Uruguay S.A., and Kawasaki Kaisen Kaisha Ltd.

Filing Party: Walter H. Lion, Esq.; McLaughlin & Stern, LLP; 260 Madison Avenue; New York, NY 10016.

Synopsis: The agreement authorizes the parties to share vessel space in the trade between U.S. East Coast ports and ports in Argentina, Brazil, Paraguay, Uruguay, and Venezuela. The parties request expedited review.

By Order of the Federal Maritime Commission.
Karen V. Gregory,
Assistant Secretary.

[FR Doc. E8-7861 Filed 4-11-08; 8:45 am]

BILLING CODE 6730-01-P